DEPARTMENT OF TRANSPORTATION

Federal Aviation Administration

14 CFR Part 39

[Docket No. FAA-2005-22420; Directorate Identifier 2005-CE-47-AD; Amendment 39-14719; AD 2006-16-19]

RIN 2120-AA64

Airworthiness Directives; B-N Group Ltd. BN-2, BN-2A, BN-2B, BN-2T, and BN-2T-4R Series (All Individual Models Included in Type Certificate Data Sheet (TCDS) A17EU, Revision 16, Dated December 9, 2002) Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. We are issuing this AD to require actions to correct the unsafe condition on these products.

DATES: This AD becomes effective September 18, 2006.

The Director of the Federal Register approved the incorporation by reference of certain publications listed in this AD as of September 18, 2006.

ADDRESSES: You may examine the AD docket on the Internet at http://dms.dot.gov or in person at the Docket Management Facility, U.S. Department of Transportation, 400 Seventh Street, SW., Nassif Building, Room PL-401, Washington, DC.

FOR FURTHER INFORMATION CONTACT: Taylor Martin, Aerospace Safety Engineer, FAA, Small Airplane Directorate, 901 Locust, Room 301, Kansas City, Missouri 64106; telephone: (816) 329-4138; facsimile: (816) 329-4090.

SUPPLEMENTARY INFORMATION:

Discussion

We issued a notice of proposed rulemaking (NPRM) to amend 14 CFR part 39 to include an AD that would apply to the specified products. That NPRM was published in the Federal Register on June 6, 2006 (71 FR 32492). That NPRM proposed to require an inspection of the internal surface of the elevator system final drive control rod and replacement if found corroded.

Comments

We gave the public the opportunity to participate in developing this AD. We have considered the comment received.

The Modification and Replacement Parts Association (MARPA) provides comments to the MCAI AD process pertaining to how the FAA addresses parts manufacturer approval (PMA) parts. The commenter would like to see the FAA more fully address the intent of the AD as it affects PMA alternatives to the unsafe Original Equipment Manufacturer (OEM) part.

We acknowledge the need to ensure that unsafe PMA parts are identified and addressed in MCAI-related ADs. We are currently examining all aspects of this issue, including input from industry. Once we have made a final determination, we will consider how our policy regarding PMA parts in ADs needs to be revised. We consider that to delay this AD action would be inappropriate since we have determined that an unsafe condition exists and that replacement of certain parts must be accomplished to ensure continued safety.

We have not changed the final rule AD action based on this comment.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

Based on the service information, we estimate that this AD will affect about 91 products of U.S. registry. We also estimate that it will take about 5 work-hours per product to do the action and that the average labor rate is $80 per work-hour. Required parts will cost about $1,000 per product. Where the service information lists required parts costs that are covered under warranty, we have assumed that there will be no charge for these costs. As we do not control warranty coverage for affected parties, some parties may incur costs higher than estimated here. Based on these figures, we estimate the cost of this AD on U.S. operators to be $127,400, or $1,400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2006-16-19 B-N Group Ltd.: Amendment 39-14719; Docket No. FAA-2005-22420; Directorate Identifier 2005-CE-47-AD.

Effective Date

(a) This airworthiness directive (AD) becomes effective September 18, 2006.

Affected ADs

(b) None.

Applicability

(c) This AD applies to all BN-2, BN-2A, BN-2B, BN-2T, and BN-2T-4R Series (all individual models included in Type Certificate Data Sheet (TCDS) A17EU, Revision 16, dated December 9, 2002) airplanes; certificated in any U.S. category.

Reason

(d) The aircraft manufacturer has identified several cases of corroded elevator final drive control rods. If not corrected corrosion of the interior surface could result in failure or collapse of the rod, resulting in loss of control or jamming of the elevator system. The mandatory continuing airworthiness information (MCAI) requires an inspection of the internal surface of the elevator system final drive control rod and replacement if found corroded.

Actions and Compliance

(e) Unless already done, do the following except as stated in paragraph (f) below.

(1) Within the next 50 hours time-in-service or one month after the effective date of this AD, whichever occurs first, inspect the internal surface of the elevator system final drive control rod, in accordance with B-N Group Ltd. Britten-Norman Service Bulletin SB number 303, Issue 1, dated May 14, 2004.

(2) If corrosion is found, the elevator control rod must be replaced before further flight.

FAA AD Differences

(f) When complying with this AD, repeat the actions in paragraphs (e)(1) and (e)(2) of this AD at intervals not to exceed 12 months.

Other FAA AD Provisions

(g) The following provisions also apply to this AD:

(1) Alternative Methods of Compliance (AMOCs): The Manager, Standards Staff, FAA, ATTN: Taylor Martin, Aerospace Safety Engineer, FAA, Small Airplane Directorate, 901 Locust, Room 301, Kansas City, Missouri 64106; telephone: (816) 329-4138; fax: (816) 329-4090, has the authority to approve AMOCs for this AD, if requested using the procedures found in 14 CFR 39.19.

(2) Return to Airworthiness: When complying with this AD, perform FAA-approved corrective actions before returning the product to an airworthy condition.

(3) Reporting Requirements: For any reporting requirement in this AD, under the provisions of the Paperwork Reduction Act, the Office of Management and Budget (OMB) has approved the information collection requirements and has assigned OMB Control Number 2120-0056.

Related Information

(h) This AD is related to MCAI United Kingdom Airworthiness Directive No: G-2004-0011, Issued Date: May 25, 2004, which references B-N Group Ltd. Britten-Norman Service Bulletin SB number 303, Issue 1, dated May 14, 2004, for information on required actions.

Material Incorporated by Reference

(i) You must use B-N Group Ltd. Britten-Norman Service Bulletin SB number 303, Issue 1, dated May 14, 2004, to do the actions required by this AD, unless the AD specifies otherwise.

(1) The Director of the Federal Register approved the incorporation by reference of this service information under 5 U.S.C. 552(a) and 1 CFR part 51.

(2) For service information identified in this AD, contact the B-N Group Ltd, Bembridge Airport, Isle of Wright, United Kingdom, PO35 5PR; telephone: 0870 881 5064; facsimile: 0870 881 5065; e-mail: structural@britten-norman.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on August 4, 2006.
John R. Colomy,
Acting Manager, Small Airplane Directorate, Aircraft Certification Service.

[FR Doc. E6-13015 Filed 8-11-06; 8:45 am]

BILLING CODE 4910-13-P